DEPARTMENT OF LABOR

Employment and Training Administration

[TA-W-65,152]

CCL Container, Hermitage, PA; Notice of Termination of Investigation

Pursuant to Section 221 of the Trade Act of 1974, as amended, an investigation was initiated on February 6, 2009, in response to a petition filed by a company official on behalf of workers of CCL Container, Hermitage, Pennsylvania.

The petitioner has requested that the petition be withdrawn. Consequently, the investigation has been terminated.

Signed at Washington, DC, this 27th day of February 2009.
Linda G. Poole,
Certifying Officer, Division of Trade Adjustment Assistance.

[FR Doc. E9-5184 Filed 3-10-09; 8:45 am]

BILLING CODE 4510-FN-P